DEPARTMENT OF HEALTH AND HUMAN SERVICES

Health Resources and Services Administration

Ryan White HIV/AIDS Program, AIDS Education and Training Centers, Graduate Medical Education Grant Under the Ryan White HIV/AIDS Program

AGENCY: Health Resources and Services Administration (HRSA), Department of Health and Human Services (HHS).

ACTION: Notice of a Class Deviation from Competition Requirements for the HIV/AIDS Bureau's (HAB) Ryan White HIV/AIDS Program, AIDS Education and Training Centers (AETC), Graduate Medical Education (GME) Program (H4A).

SUMMARY: HRSA will be issuing non-competitive awards under the Ryan White HIV/AIDS Program, AETC/GME Program. Approximately $450,000 will be made available in the form of a grant to current grantees (listed in chart below) during the budget period of July 1, 2014, through June 30, 2015. This will: (1) Continue the current cohort and provide support for one additional cohort of graduate medical residents; (2) continue to provide workforce development that is integral to the national interest through meeting National HIV/AIDS Strategy goals, and that enhances the implementation of the Affordable Care Act; and (3) provide a more robust program evaluation that will yield sufficient data; and aid HRSA/HAB in future decisions regarding the replication and the viability of a subsequent GME competition. The scope of work does not change.

SUPPLEMENTARY INFORMATION: Intended recipients of the awards are the three incumbent grantees of record (listed in chart below). The amount of the non-competitive awards is $150,000 per grantee.

Authority: Section 2692 of the Public Health Service Act, 42, U.S.C. 300ff-111.

CFDA Number: 93.145

Project period: July 1, 2014, through June 30, 2015.

Justification: The GME Program, which has three funded grantees: Yale University (H4AHA22762), Research Foundation of the State University of New York (H4AHA22761), and Family Medicine Residency of Idaho (H4AHA22760), is scheduled to end June 30, 2014. The Ryan White HIV/AIDS AETC/GME Program seeks to provide a one-time non-competitive award in order to avoid interruption in continued HIV primary medical care education at these three universities by completing the current cohort and producing one more cohort of graduates, thus providing additional time to accurately assess and evaluate the success of the program. This is a primary care training group, which helps link critical HIV/AIDS resources within and across communities to help expand the clinician workforce capacity to meet the growing demand for HIV care by training their medical residents. The purpose of the GME program (which ties directly to the shortage of primary health care providers in HIV/AIDS care in the United States) is to fund public and nonprofit private entities and schools, and academic health science centers in order to expand opportunities to train medical residents in HIV/AIDS care and treatment. Grant funds are requested in order to accomplish this purpose and meet the three objectives described in the above summary. This funding is intended to bridge the gap until this GME program may be competed again.

FOR FURTHER INFORMATION CONTACT: Diana Travieso Palow, Branch Chief, HIV Education Branch, Division of Training and Capacity Development, HAB/HRSA 5600 Fishers Lane, Rockville, MD 20857, by email at DPalow@hrsa.gov, or by phone at (301) 443-4405.

Grantee/organization name | Grant No. | State | FY 2014 Supplemental funding | Revised project end date
Yale University | H4AHA22762 | CT | $150,000 | June 30, 2015.
Research Foundation of the State University of New York (SUNY) | H4AHA22761 | NY | 150,000 | June 30, 2015.
Family Medicine Residency of Idaho | H4AHA22760 | ID | 150,000 | June 30, 2015

Dated: June 27, 2014.
Mary K. Wakefield,
Administrator.

[FR Doc. 2014-15705 Filed 7-3-14; 8:45 am]

BILLING CODE 4165-15-P